DEPARTMENT OF TRANSPORTATION

Pipeline and Hazardous Materials Safety Administration

[Docket No. PHMSA-2017-0155]

Pipeline Safety: Request for Special Permit—Hawaiian Electric Company, Inc.

AGENCY: Pipeline and Hazardous Materials Safety Administration (PHMSA); DOT.

ACTION: Notice.

SUMMARY: PHMSA is publishing this notice to seek public comments on a request for special permit, seeking relief from compliance with certain requirements in the Federal pipeline safety regulations. At the conclusion of the 30-day comment period, PHMSA will review the comments received from this notice as part of its evaluation to grant or deny the special permit request.

DATES: Submit any comments regarding this special permit request by June 25, 2018.

ADDRESSES: Comments should reference the docket number for the specific special permit request and may be submitted in the following ways:

• E-Gov website: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue SE, Washington, DC 20590.

• Hand Delivery: Docket Management System: U.S. Department of Transportation, Docket Operations, M-30, West Building Ground Floor, Room W12-140, 1200 New Jersey Avenue SE, Washington, DC 20590, between 9:00 a.m. and 5:00 p.m., Monday through Friday, except Federal holidays.

Instructions: You should identify the docket number for the special permit request you are commenting on at the beginning of your comments. If you submit your comments by mail, please submit two copies. To receive confirmation that PHMSA has received your comments, please include a self-addressed stamped postcard. Internet users may submit comments at http://www.Regulations.gov.

Note: Privacy Act Statement: DOT may solicit comments from the public regarding certain general notices. DOT posts these comments, without edit, including any personal information the commenter provides, to www.regulations.gov, as described in the system of records notice (DOT/ALL-14 FDMS), which can be reviewed at www.dot.gov/privacy.

FOR FURTHER INFORMATION CONTACT:

General: Ms. Kay McIver by telephone at 202-366-0113, or email at kay.mciver@dot.gov.

Technical: Mr. Joshua Johnson by telephone at 816-329-3825, or email at joshua.johnson@dot.gov.

SUPPLEMENTARY INFORMATION: On November 13, 2017, PHMSA received a special permit request from the Hawaiian Electric Company, Inc., (HECO), a hazardous liquid pipeline operator seeking permission to deviate from the pipeline safety regulations at 49 CFR 195.571, regarding the criteria that must be used to determine cathodic protection of a pipeline.

On January 9, 2018, PHMSA issued a Notice of Proposed Safety Order (NOPSO) mandating that HECO adopt certain corrective measures for the Waiau pipeline while the special permit request was being reviewed and determined. After issuance of the NOPSO, a situation occurred where the Waiau pipeline leaked for over six hours. The preliminary cause of the spill appears to be external corrosion due to ineffective cathodic protection, as described in the NOPSO.

The Waiau pipeline is a 13-mile onshore intrastate pipeline located within the City and County of Honolulu, Hawaii. It begins at the Hawaiian Electric Barbers Tank Farm in Kapolei, Oahu, and ends at the Waiau Power Plant in Pearl City, Oahu, Hawaii. The pipeline was constructed in 2004 using fusion bond epoxy coating with 2 inches of urethane foam insulation, and 80-millimeter, high density polyurethane (HDPE) jacket. The thermal insulation and PE jacketing has high electrical resistance properties that inhibit the cathodic protection current flow to areas where water migration and corrosion may occur. Although annual cathodic protection inspections confirm that the Waiau pipeline experiences adequate levels of cathodic protection, cathodic protection is expected to be an ineffective corrosion control method for thermally insulated pipe. The maximum operating pressure of this pipeline is 1,350 psig. The pipeline runs through areas of mixed high population and other populated areas and is located entirely in an ecologically unusually sensitive area.

For additional protection and integrity of the pipeline, HECO proposes to conduct, among other measures, alternative in-line inspection technology every four years, rotating between Axial or Circumferential and Ultrasonic testing. HECO claims that the proposed measures will provide a safer alternative than required by the regulations and better capabilities to detect corrosion clusters that may appear invisible if they were to align with the inspection tool magnetic fields.

A draft Environmental Assessment (DEA) is provided in the respective docket at http://www.Regulations.gov, for each special permit request. We invite interested persons to participate by reviewing the special permit request and DEA at http://www.Regulations.gov, and by submitting written comments, data, or other views. Please include any comments on potential safety and environmental impacts that may result if the special permit is granted.

Before issuing a decision on the special permit request, PHMSA will evaluate all comments received on or before the comment closing date. Comments received after the closing date will be evaluated if it is possible to do so without incurring additional expense or delay. PHMSA will consider each relevant comment we receive in making our decision to grant or deny a request.

Issued in Washington, DC, on May 22, 2018, under authority delegated in 49 CFR 1.97.
Alan K. Mayberry,
Associate Administrator for Pipeline Safety.

[FR Doc. 2018-11333 Filed 5-24-18; 8:45 am]

BILLING CODE 4910-60-P